DEPARTMENT OF THE INTERIOR

Fish and Wildlife Service

[FWS-R2-R-2010-N203; 20131-1265-2CCP-S3]

Tishomingo National Wildlife Refuge, Johnston County, OK; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for the Tishomingo National Wildlife Refuge (NWR). In this final CCP, we describe how we will manage this Refuge for the next 15 years.

ADDRESSES: You may view or obtain copies of the final CCP and FONSI/EA by any of the following methods. You may request a hard copy or CD-ROM.

Agency Web Site: Download a copy of the document(s) at http://www.fws.gov/southwest/refuges/Plan/index.html.

E-mail: Joseph_Lujan@fws.gov. Include “Tishomingo Final CCP” in the subject line of the message.

Mail: Joseph R. Lujan, Natural Resource Planner, U.S. Fish and Wildlife Service, Division of Planning, P.O. Box 1306, Albuquerque, NM 87103-1306.

In-Person Viewing or Pickup: Call 505-248-7458 to make an appointment during regular business hours at 500 Gold Avenue SW., Albuquerque, NM 87102.

FOR FURTHER INFORMATION CONTACT: Kris Patton, Refuge Manager, Tishomingo NWR, 12000 South Refuge Road, Tishomingo, OK 73625; by phone, 580-371-2402; or by e-mail, kris_patton@fws.gov.

SUPPLEMENTARY INFORMATION:

Introduction

With this notice, we finalize the CCP process for the Tishomingo NWR. We started this process through a notice in the Federal Register November 17, 1999 (64 FR 62683).

Tishomingo NWR is located in Johnston County, Oklahoma, and encompasses 16,464 acres located in south-central Oklahoma. Management efforts focus on protecting, enhancing, and restoring Refuge habitats and water management for the benefit of fish and wildlife resources. Cumberland Pool, a part of Lake Texoma, takes up a quarter of the Refuge and serves as the focal point for many visitors because of its birds and fish. The Refuge also has a strong historical context. The Refuge was once the homeland of the Chickasaw Nation, and later became the Washita and Chapman Farms, integrating an entire community.

On January 24, 1946, the Refuge was authorized and established to preserve nesting grounds for migrating waterfowl, by order of President Harry S. Truman under Public Land Order 312. U.S. Army Corps of Engineers' and the Service's cooperative agreement, along with a cooperative agreement between the Service, Oklahoma Department of Wildlife Conservation, and the Corps, are the foundation of refuge management authority for the Service.

We announce our decision and the availability of the FONSI for the final CCP for the Tishomingo NWR in accordance with National Environmental Policy Act (NEPA) (40 CFR 1506.6(b)) requirements. We completed a thorough analysis of impacts on the human environment, which we included in the EA that accompanied the draft CCP.

The CCP will guide us in managing and administering the Tishomingo National Wildlife Refuge for the next 15 years. Alternative B, with modifications as described in Appendix I (Response to Public Comments), is selected as the management direction for the Final Plan.

Background

The National Wildlife Refuge System Administration Act of 1966 (16 U.S.C. 668dd-668ee) (Refuge Administration Act), as amended by the National Wildlife Refuge System Improvement Act of 1997, requires us to develop a CCP for each national wildlife refuge. The purpose for developing a CCP is to provide Refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives, Including Selected Alternative

Our draft CCP and our EA (75 FR 3753) addressed several issues. To address these, we developed and evaluated the following alternatives.

| A: No-action alternative | B: Proposed action alternative | C: Expanded public-use alternative
Issue 1: Habitat Management Activities | Biological program and habitat management would continue under existing plans; any expansions would occur opportunistically | Integrated biological and habitat management efforts with landscape level and ecosystem level plans; implement adaptive management practices that would contribute to ongoing monitoring and modification of Refuge resources | Same as Proposed Action (Alternative B).
Issue 2: Improvements to public use opportunities | Limited to current public use under existing plans; Any expansions would occur opportunistically | Improvement of priority public uses, particularly hunting, fishing and wildlife observation, to meet demand when compatible with wildlife needs and Refuge purposes; expansion of research efforts and dynamic partnerships | Expand and emphasize all priority public uses, particularly hunting within the Wildlife Management Unit portion of the Refuge.
Issue 3: Staffing, Facilities, and Infrastructure | Existing staffing (seven permanent positions) and facilities; any additional staff and facility expansions would occur opportunistically | Addition of a Visitors Service Manager to existing base; addition of over 5 miles of hiking trails with pull outs and parking areas; development of primitive camping areas | Same as Proposed Action (Alternative B) plus additional 10 miles of hiking trails, an 8-mile canoe interpretive trail and a 12-mile auto tour route.

Comments

We solicited comments on the draft CCP and the EA for the Tishomingo NWR from January 22, 2010, to March 23, 2010 (75 FR 3753). The Draft Plan/EA was made available for public review on January 22, 2010, at the Refuge; at the local library in Tishomingo, OK; and at the Regional Office in Albuquerque, New Mexico. A total of 12 meetings were held with other local, State, and Federal governments as well as the local Chickasaw nation and nongovernment agencies, including one university. An open house public meeting was also held on February 24, 2010, in the Redbud Environmental Education Center on the Tishomingo NWR, where a total of 15 individuals signed the attendance rosters. A total of 82 comments were submitted in writing to the Refuge/Regional Office. Additionally, one State agency, one university, and two nongovernmental organizations responded prior to the end of the 60-day public comment period.

Based on the comments received, the Draft Plan/EA was changed to include rationale on how management direction for Lake Texoma is consistent with the purpose of establishment of the Refuge and remains focused on waterfowl, migratory birds, and other wildlife. Additional rationale was also incorporated to maintain the current amount of farming but increase moist soil units in an attempt to improve waterfowl habitat.

Selected Alternative

After considering the comments we received, we have selected Alternative B for implementation. This alternative describes how habitat objectives will be accomplished through a combination of adaptive management activities to encourage ecological integrity, promote restoration of grasslands, and control invasive plant species to promote habitat for migratory birds, waterfowl and other resident wildlife. This alternative was selected because it best meets Refuge purposes and goals. This action will not adversely impact endangered or threatened species or their habitat. Opportunities for wildlife-dependent recreation activities, such as hunting, fishing, wildlife observation, wildlife photography, environmental education, and interpretation, will be enhanced. Future management actions will have a neutral or positive impact on the local economy, and the recommendations in the Plan will ensure that Refuge management is consistent with the mission of the National Wildlife Refuge System.

Public Availability of Documents

In addition to the methods in ADDRESSES, you can view or obtain documents at the following locations:

• Our Web site: http://www.fws.gov/southwest/refuges/oklahoma/tishomingo/Index_html.

• At the following locations:

Library | Address | Phone No.
Johnston County Library—Chickasaw Library System | 116 West Main Street, Tishomingo, OK 73460 | (580) 371-3006

Dated: October 29, 2010.
Joy E. Nicholopoulos,
Regional Director, Region 2, U.S. Fish and Wildlife Service.

[FR Doc. 2010-30001 Filed 11-29-10; 8:45 am]

BILLING CODE 4310-55-P